DEPARTMENT OF VETERANS AFFAIRS

[OMB Control No. 2900-0658]

Agency Information Collection Activity Under OMB Review: Lender's Staff Appraisal Reviewer (SAR) Application

AGENCY: Loan Guaranty Service, Department of Veterans Affairs.

ACTION: Notice.

SUMMARY: In compliance with the Paperwork Reduction Act (PRA) of 1995, this notice announces that the Loan Guaranty Service, Department of Veterans Affairs, will submit the collection of information abstracted below to the Office of Management and Budget (OMB) for review and comment. The PRA submission describes the nature of the information collection and its expected cost and burden and it includes the actual data collection instrument.

DATES: Comments must be submitted on or before December 28, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0658” in any correspondence.

FOR FURTHER INFORMATION CONTACT: Cynthia Harvey-Pryor, Office of Quality, Privacy and Risk (OQPR), Department of Veterans Affairs, 810 Vermont Avenue NW., Washington, DC 20420, (202) 461-5870 or email cynthia.harvey-pryor@va.gov.

Please refer to “OMB Control No. 2900-0658” in any correspondence.

SUPPLEMENTARY INFORMATION:

Authority: Public Law 104-13; 44 U.S.C. 3501-3521.

Title: VA FORM 26-0785, Lender's Staff Appraisal Reviewer (SAR) Application.

OMB Control Number: 2900-0658.

Type of Review: Extension of a currently approved collection.

Abstract: Title 38 U.S.C. 3702(d) authorizes VA to establish standards for lenders making automatically guaranteed loans and 38 CFR 36.4344 establishes requirements and procedures for lenders in being approved to perform the functions under the Lender Appraisal Processing Program (LAPP).

An agency may not conduct or sponsor, and a person is not required to respond to a collection of information unless it displays a currently valid OMB control number. The Federal Register Notice with a 60-day comment period soliciting comments on this collection of information was published at 82 FR 38759 on August 15, 2017, pages 38759-38760.

Affected Public: Individuals (employees of lenders making applications).

Estimated Annual Burden: 200 hours.

Estimated Average Burden per Respondent: 5 minutes.

Frequency of Response: On occasion.

Estimated Number of Respondents: 2,400 per year.

By direction of the Secretary.
Cynthia Harvey-Pryor,
Department Clearance Officer, Office of Quality, Privacy and Risk, Department of Veterans Affairs.

[FR Doc. 2017-25593 Filed 11-27-17; 8:45 am]

BILLING CODE 8320-01-P